SECURITIES AND EXCHANGE COMMISSION

[Release No. 34-75004; File No. SR-NYSEMKT-2015-23]

Self-Regulatory Organizations; NYSE MKT LLC; Notice of Designation of a Longer Period for Commission Action on a Proposed Rule Change Adopting a Principles-Based Approach To Prohibit the Misuse of Material Nonpublic Information by Specialists and e-Specialists by Deleting Rule 927.3NY and Section (f) of Rule 927.5NY

May 20, 2015.

On March 26, 2015, NYSE MKT LLC (the “Exchange”) filed with the Securities and Exchange Commission (the “Commission”), pursuant to Section 19(b)(1) ¹ of the Securities Exchange Act of 1934 (the “Act”) ² and Rule 19b-4 thereunder,³ a proposed rule change to delete Exchange Rule 927.3NY and section (f) of Rule 927.5NY to adopt a principles-based approach to prohibit the misuse of material nonpublic information by Specialists and e-Specialists. The proposed rule change was published for comment in the Federal Register on April 14, 2015.⁴ The Commission has received one comment letter on the proposed rule change.⁵

¹ 15 U.S.C. 78s(b)(1).

² 15 U.S.C. 78a.

³ 17 CFR 240.19b-4.

⁴ See Securities Exchange Act Release No. 74677 (Apr. 8, 2015), 80 FR 20049 (Apr. 14, 2015).

⁵ See letter from Peter D. Selman, Goldman Sachs & Co., to Commission, dated May 5, 2015.

Section 19(b)(2) of the Act ⁶ provides that, within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The Commission is extending this 45-day time period. The Commission finds that it is appropriate to designate a longer period within which to take action on the proposed rule change so that it has sufficient time to consider the proposed rule change.

⁶ 15 U.S.C. 78s(b)(2).

Accordingly, the Commission, pursuant to Section 19(b)(2) of the Act,⁷ designates July 13, 2015, as the date by which the Commission shall either approve or disapprove or institute proceedings to determine whether to disapprove the proposed rule change (File Number SR-NYSEMKT-2015-23).

⁷ Id.

⁸ 17 CFR 200.30-3(a)(31).

For the Commission, by the Division of Trading and Markets, pursuant to delegated authority.⁸
Robert W. Errett,
Deputy Secretary.

[FR Doc. 2015-12688 Filed 5-26-15; 8:45 am]

BILLING CODE 8011-01-P